ENVIRONMENTAL PROTECTION AGENCY

[EPA-HQ-OLEM-2018-0693; FRL-10849-01-OMS]

Agency Information Collection Activities; Submission to the Office of Management and Budget for Review and Approval; Comment Request; Identification of Non-Hazardous Secondary Materials That Are Solid Waste (Renewal)

AGENCY: Environmental Protection Agency (EPA).

ACTION: Notice.

SUMMARY: The Environmental Protection Agency (EPA) has submitted an information collection request (ICR), Identification of Non-Hazardous Secondary Materials That Are Solid Waste (EPA ICR Number 2382.06, OMB Control Number 2050-0205) to the Office of Management and Budget (OMB) for review and approval in accordance with the Paperwork Reduction Act. This is a proposed extension of the ICR, which is currently approved through March 31, 2023. Public comments were previously requested via the Federal Register on July 28, 2022 during a 60-day comment period. This notice allows for an additional 30 days for public comments.

DATES: Comments may be submitted on or before April 28, 2023.

ADDRESSES: Submit your comments, referencing Docket ID Number EPA-HQ-OLEM-2018-0693, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Jesse Miller, Environmental Protection Agency, 1200 Pennsylvania Ave. NW, Washington, DC 20460; telephone number: 202-566-0562; miller.jesse@epa.gov@epa.gov.

SUPPLEMENTARY INFORMATION: This is a proposed extension of the ICR, which is currently approved through March 31, 2023. An agency may not conduct or sponsor and a person is not required to respond to a collection of information unless it displays a currently valid OMB control number.

Public comments were previously requested via the Federal Register on July 28, 2022 during a 60-day comment period (87 FR 45315). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR is a description of the information collection requirements for combustion units that use non-hazardous secondary materials (NHSM) that are solid wastes and combines and harmonizes prior regulatory amendments into one ICR. This ICR also includes the burden associated with the 2016 amendments to the Final Rule (81 FR 6688, February 8, 2016), which added three materials to the list of categorical non-waste fuels: (1) construction and demolition (C&D) wood processed from construction and demolition debris according to best management practices; (2) paper recycling residuals (PRRs) generated from the recycling of recovered paper, paperboard and corrugated containers and combusted by paper recycling mills whose boilers are designed to burn solid fuel; and (3) creosote-treated railroad ties that are processed and combusted in units designed to burn both biomass and fuel oil as part of normal operations and not solely as part of start-up or shut-down operations. Finally, this ICR includes the burden associated with the 2018 amendments to the Final Rule (83 FR 5317, February 7, 2018), which added three types of other treated railroad ties (OTRTs) to the list of categorical non-waste fuels: (1) Creosote-borate treated railroad ties, and mixtures of creosote, borate and copper naphthenate treated railroad ties that are processed and combusted in units designed to burn both biomass and fuel oil; (2) Copper naphthenate treated railroad ties that are processed and then combusted in units designed to burn biomass, biomass and fuel oil or biomass and coal; and (3) Copper naphthenate-borate treated railroad ties that are processed and then combusted in units designed to burn biomass, biomass and fuel oil or biomass and coal.

Form Numbers: None.

Respondents/affected entities: Entities potentially affected by this action are business or other for-profit organizations.

Respondent's obligation to respond: Required to obtain benefit (Sections 1004 and 2002 of RCRA).

Estimated number of respondents: 16.

Frequency of response: One-time.

Total estimated burden: 352 hours per year. Burden is defined at 5 CFR 1320.03(b).

Total estimated cost: $34,581 (per year), which includes $867 annualized capital or operation & maintenance costs.

Changes in the Estimates: There is a decrease of 516 hours in this renewal. This decrease is due to a drop in the number of respondents.

Courtney Kerwin,
Director, Regulatory Support Division.

[FR Doc. 2023-06539 Filed 3-28-23; 8:45 am]

BILLING CODE P